DEPARTMENT OF THE TREASURY

Internal Revenue Service

Internal Revenue Service Advisory Council (IRSAC); Nominations

AGENCY: Internal Revenue Service, Department of the Treasury.

ACTION: Request for nominations.

SUMMARY: The Internal Revenue Service (IRS) is seeking new members to serve on the Internal Revenue Service Advisory Council (IRSAC). Applications are currently being accepted for appointments that will begin in January 2024. IRSAC members are drawn from substantially diverse backgrounds representing a cross-section of the taxpaying public with substantial, disparate experience in: tax preparation for individuals, small businesses and large, multi-national corporations; tax-exempt and government entities; information reporting; and taxpayer or consumer advocacy. Nominations of qualified individuals may come from individuals or organizations; applications should describe and document the proposed member's qualifications for IRSAC.

DATES: Applications must be received on or before May 31, 2023.

ADDRESSES: Applications should be submitted to IRS National Public Liaison via email to publicliaison@irs.gov or electronic fax to 855-811-8021. Applications are available on the IRS website at https://www.irs.gov/irsac.

FOR FURTHER INFORMATION CONTACT: Anna Brown at 202-317-6564 (not a toll-free number) or send an email to publicliaison@irs.gov.

SUPPLEMENTARY INFORMATION: In particular, the IRSAC is seeking applicants with specific knowledge and background in the following areas:

Individual Wage & Investment—Knowledge of tax law application/tax preparation experience, income tax issues related to refundable credits, the audit process, and/or how information returns are used and integrated for compliance; experience educating on tax issues and topics, with multi-lingual taxpayer communications, with taxpayer advocacy or contact center operations, marketing/applying industry benchmarks to operations, with tax software industry, and/or with the creation or use of diverse information returns used to report income, deductions, withholding, or other information for tax purposes; familiarity with IRS tax forms and publications; familiarity with IRS's online applications (e.g., Online Account, EITC Assistant, etc.); financial services information technology background with knowledge of technology innovations in public and private customer service sectors.

Information Reporting—Knowledge of banking industry and/or possess broker-dealer background with experience filing information returns; knowledge of payroll industry; experience with retirement withholding and reporting.

Large Business & International—Experience as a certified public accountant or tax attorney working in or for a large, sophisticated multinational organization; experience working in-house at a major firm dealing with tax planning for complex organizations including large multinational corporations and large partnerships.

Small Business & Self-Employed—Knowledge or experience with digital assets and/or peer to peer payment applications; knowledge of passthrough entities and/or fiduciary tax; experience with online or digital businesses, audit representation and/or educating on tax issues and topics; knowledge base and/or background related to Collection activities and balance due case resolution options; experience as a practitioner in one or more underserved communities (e.g., where English is not the first language); experience with digitalization systems, tools, or processes; marketing experience to help with ideas for increasing uptake of digital tools offered by the IRS; knowledge of IRS modernization projects; understanding of the Inflation Reduction Act and how it will impact the IRS in the coming years; experience developing and/or delivering virtual presentations.

Tax Exempt & Government Entities—Experience with Indian tribal governments; experience in Federal, State, or local governments; experience in tax-exempt bonds and/or employee plans.

The IRSAC is authorized under the Federal Advisory Committee Act, 5 U.S.C. 10. It serves as an advisory body to the Commissioner of Internal Revenue and provides an organized public forum for discussion of relevant tax administration issues between IRS officials and representatives of the public. The IRSAC proposes enhancements to IRS operations; recommends administrative and policy changes to improve taxpayer service, compliance and tax administration; discusses relevant information reporting issues; addresses matters concerning tax-exempt and government entities; and conveys the public's perception of professional standards and best practices for tax professionals.

The IRSAC holds approximately four, two-day working sessions and at least one public meeting per year. Members are not paid for their services; any travel expenses are reimbursed within federal government guidelines.

Appointed by the Commissioner of Internal Revenue with the concurrence of the Secretary of the Treasury, IRSAC members will serve three-year terms to allow for a rotation in membership which ensures that different perspectives are represented. In accordance with the Department of Treasury Directive 21-03, a clearance process, including a tax compliance check and a practitioner check with the IRS Office of Professional Responsibility, will be conducted. In addition, all applicants deemed “Best Qualified” shall undergo a Federal Bureau of Investigation fingerprint check.

All applicants will be sent an acknowledgment of receipt.

Equal opportunity practices will be followed for all appointments to the IRSAC in accordance with the Department of Treasury and IRS policies. The IRS has special interest in assuring that women and men, members of all races and national origins, and individuals with disabilities have an opportunity to serve on advisory committees. Therefore, the IRS extends particular encouragement to nominations from such appropriately qualified candidates.

Dated: April 20, 2023.
John A. Lipold,
Designated Federal Official, Office of National Public Liaison, Internal Revenue Service.

[FR Doc. 2023-08713 Filed 4-24-23; 8:45 am]

BILLING CODE 4830-01-P